DEPARTMENT OF ENERGY

Federal Energy Regulatory Commission

[Docket No. RP01-249-000]

Trunkline Gas Company; Notice of Proposed Changes in FERC Gas Tariff

March 6, 2001.

Take notice that on March 1, 2001, Trunkline Gas Company (Trunkline) tendered for filing as part of its FERC Gas Tariff, First Revised Volume No. 1, the tariff sheets listed in Appendix A attached to the filing, to become effective April 1, 2001.

Trunkline states that this filing is being made in accordance with section 22 (Fuel Reimbursement Adjustment) of Trunkline's FERC Gas Tariff, First Revised Volume No. 1. The revised tariff sheets listed on Appendix A reflect: a 0.24% decrease (Field Zone to Zone 2), a 0.23% decrease (Zone 1A to Zone 2), a 0.18% decrease (Zone 1B to Zone 2), a 0.3% increase (Zone 2 only), a 0.40% decrease (Field Zone to Zone 1B), a 0.39% decrease (Zone 1A to Zone 1B), a 0.34% decrease (Zone 1B only), a 0.19% decrease (Field Zone to Zone 1A), a 0.18% decrease (Zone 1A only) and a 0.14% decrease (Field Zone only) to the currently effective fuel reimbursement percentages.

Trunkline states that copies of this filing are being served on all affected shippers and interested state regulatory agencies.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Rules Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-5999 Filed 3-12-01; 8:45 am]

BILLING CODE 6717-01-M